DEPARTMENT OF COMMERCE

Patent and Trademark Office

[Docket No.: 2003-P-018]

Notice of Availability of and Request for Comments on Green Paper Concerning Restriction Practice

AGENCY: United States Patent and Trademark Office, Commerce.

ACTION: Request for comments.

SUMMARY: The United States Patent and Trademark Office (USPTO) has established a 21st Century Strategic Plan to transform the USPTO into a quality focused, highly productive, responsive organization supporting a market-driven intellectual property system. As a part of this plan, the USPTO is conducting a study of its restriction practice. As part of this study, the Office requested public comments to help guide the study. After careful consideration of the public comments and an internal review, the USPTO has prepared a “Green Paper” describing and evaluating four options to reform restriction practice suggested by various members of the public. Prior to considering the desirability of drafting proposed legislation in a “White Paper” on reforming restriction practice, the USPTO is seeking public comment on the Green Paper.

DATES: Comment Deadline Date: To be ensured of consideration, written comments must be received on or before August 5, 2005. No public hearing will be held.

ADDRESSES: Comments should be sent by electronic mail message over the Internet addressed to: unity.comments@uspto.gov. Comments may also be submitted by mail addressed to: Mail Stop Comments—Patents, Commissioner for Patents, P.O. Box 1450, Alexandria, VA, 22313-1450, or by facsimile to (571) 273-7735, marked to the attention of Robert A. Clarke. Although comments may be submitted by mail or facsimile, the Office prefers to receive comments via the Internet. If comments are submitted by mail, the Office prefers that the comments be submitted on a DOS formatted 3½ inch disk accompanied by a paper copy.

Comments may also be sent by electronic mail message over the Internet via the Federal eRulemaking Portal. See the Federal eRulemaking Portal Web site (http://www.regulations.gov) for additional instructions on providing comments via the Federal eRulemaking Portal.

The comments will be available for public inspection at the Office of the Commissioner for Patents, located in Madison East, Tenth Floor, 600 Dulany Street, Alexandria, Virginia, and will be available through anonymous file transfer protocol (ftp) via the Internet (address: http://www.uspto.gov). Because comments will be made available for public inspection, information that is not desired to be made public, such as an address or phone number, should not be included in the comments.

FOR FURTHER INFORMATION CONTACT: Robert A. Clarke, Senior Legal Advisor, Office of Patent Legal Administration, Office of the Deputy Commissioner for Patent Examination Policy, by telephone at (571) 272-7735, by mail addressed to: Mail Stop Comments—Patents, Commissioner for Patents, P.O. Box 1450, Alexandria, VA, 22313-1450, or by facsimile to (571) 273-7735, marked to the attention of Robert A. Clarke, or preferably via e-mail addressed to: robert.clarke@uspto.gov.

SUPPLEMENTARY INFORMATION: The USPTO established a 21st Century Strategic Plan to transform the USPTO into a more quality-focused, highly productive, responsive organization supporting a market-driven intellectual property system. As part of this plan, the USPTO stated it would conduct a study of the changes needed to implement a Patent Cooperation Treaty (PCT) style Unity of Invention standard in the United States. Prior to starting a detailed study, the USPTO published a notice seeking public comment on a number of issues to help guide the scope and content of a study on the adoption of a Unity of Invention standard in the United States. See Request for Comments on the Study of the Changes Needed to Implement a Unity of Invention Standard in the United States, 68 FR 27536 (May 20, 2003), 1271 Off. Gaz. Pat. Office 98 (June 17, 2003). In response to that notice, the USPTO received twenty-six (26) public comments. Those public comments were posted on the USPTO's Internet Web site.

The USPTO posted a notice summarizing the general nature of the comments received as well as the next steps in the study in November of 2004. See Summary of Public Comments and the Restriction Reform Options to be Studied by the United States Patent and Trademark Office, 1277 Off. Gaz. Pat. Office 94 (Dec. 16, 2003) (Notice). The Notice indicated that as a result of the comments received, the USPTO would conduct a detailed business-case analysis on four restriction reform options and prepare a revised timeline to complete the study. The USPTO also replaced the public comments and schedule to implement a PCT-style Unity of Invention standard with the Notice.

The USPTO study included a review of hundreds of applications under each of the studied options including how examination practices would be impacted. This study also included review of the workflow, pendency and overall ability of the USPTO to appropriately implement each of the standards. The interim results of the study are provided in the Green Paper for which we are requesting comment via this notice. The Green Paper is available on the USPTO's Internet Web site (http://www.uspto.gov).

Dated: May 27, 2005.
Jon W. Dudas,
Under Secretary of Commerce for Intellectual Property and Director of the United States Patent and Trademark Office.

[FR Doc. 05-11177 Filed 6-3-05; 8:45 am]

BILLING CODE 3510-16-P